DEPARTMENT OF THE INTERIOR

Bureau of Land Management

[LLES962000 L14400000 BJ0000 18X]

Notice of Filing of Plat Survey; Eastern States

AGENCY: Bureau of Land Management, Interior.

ACTION: Notice of filing of plat of survey; Wisconsin, stayed.

SUMMARY: On Tuesday, January 16, 2018, there was published in the Federal Register, Volume 83, Number 10, on page 2185 a notice entitled “Eastern States: Filing of Plats of Survey”. In said notice was a plat depicting the dependent resurvey of a portion of the north boundary, a portion of the subdivisional lines, the east and west center line of section 2; and the survey of subdivision of section 2, the division of accretion in section 2, a portion of the present day meanders of section 2, and an informational traverse of the adjusted 1852 connecting traverse line, of Township 48 North, Range 3 West, of the Fourth Principal Meridian, in the State of Wisconsin. These were accepted December 6, 2017.

The official filing of the plat is hereby stayed, pending consideration of all protests.

Dated: February 22, 2018.
Leon Chmura,
Acting Chief Cadastral Surveyor.

[FR Doc. 2018-04653 Filed 3-7-18; 8:45 am]

BILLING CODE 4310-GJ-P